ENVIRONMENTAL PROTECTION AGENCY

[EPA-HQ-OW-2008-0719, FRL-9118-2]

Agency Information Collection Activities; Proposed Collection; Comment Request; Animal Sectors; EPA ICR No. 1989.07; OMB Control No. 2040-0250

AGENCY: Environmental Protection Agency (EPA).

ACTION: Notice.

SUMMARY: In compliance with the Paperwork Reduction Act (44 U.S.C. 3501 et seq.), this notice announces that EPA is planning to submit a request to renew an existing approved Information Collection Request (ICR) to the Office of Management and Budget (OMB). This ICR is scheduled to expire on July 31, 2012. Before submitting the ICR to OMB for review and approval, EPA is soliciting comments on specific aspects of the proposed information collection as described below.

DATES: Comments must be submitted on or before April 26, 2010.

ADDRESSES: Submit your comments, identified by Docket ID No. EPA-HQ-OW-2008-0719, by one of the following methods:

• http://www.regulations.gov: Follow the online instructions for submitting comments.

• E-mail: ow-docket@epa.gov (Identify Docket ID No. EPA-HQ-OW-2008-0719 in the subject line).

• Mail: Water Docket, Environmental Protection Agency, Mailcode: 4203M, 1200 Pennsylvania Ave., NW., Washington, DC 20460. Please include a total of three copies.

• Hand Delivery: EPA Docket Center, EPA West, Room 3334, 1301 Constitution Avenue, NW., Washington, DC 20460. Such deliveries are only accepted during the Docket's normal hours of operation, and special arrangements should be made for deliveries of boxed information.

Instructions: Direct your comments identified by the Docket ID No. EPA-HQ-OW-2008-0719. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Amelia Letnes, State and Regional Branch, Water Permits Division, OWM Mail Code: 4203M, Environmental Protection Agency, 1200 Pennsylvania Ave., NW., Washington, DC 20460; telephone number: (202) 564-5627; e-mail address: letnes.amelia@epa.gov.

SUPPLEMENTARY INFORMATION:

How Can I Access the Docket and/or Submit Comments?

EPA has established a public docket for this ICR under Docket ID No. EPA-HQ-OW-2008-0719, which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of technical information/data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected Entities: Entities potentially affected by this action are concentrated animal feeding operations (CAFOs) as specified in section 502(14) of the Clean Water Act, 33 U.S.C. 1362(14) and defined in the NPDES regulations at 40 CFR 122.23 and a subset of facilities engaged in aquatic animal production defined in 40 CFR part 451.

Title: Animal Sectors ICR.

ICR Number: EPA ICR No. 1989.07, OMB Control No. 2040-0250.

ICR Status: This ICR is currently scheduled to expire on July 31, 2012. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The purpose of this ICR is to consolidate, streamline, and update EPA's concentrated animal feeding operations (CAFOs) and concentrated aquatic animal production (CAAP) facility ICRs into the currently approved ICR for CAFOs (OMB Control No.: 2040-0250). The two ICRs that are being consolidated in this ICR are: (1) NPDES and ELG Regulatory Revisions for Concentrated Animal Feeding Operations (Final Rule) (OMB Control No. 2040-0250); and (2) Concentrated Aquatic Animal Production (CAAP) Effluent Guidelines (OMB Control No. 2040-0258). Additionally, two activities reported in the NPDES Program ICR (OMB Control No. 2040-0004) that are directly related with CAAP facilities or CAFOs will be incorporated in this ICR. (The two activities are the Permit Application for CAAP facilities using form 2B and Other Noncompliance Reports for CAFOs.)

Burden Statement: The individual ICRs provide a detailed explanation of the Agency's estimate before update and consolidation, which is only briefly summarized here on Tables 1 and 2. The frequency of response for these ICRs varies from once to ongoing.

Table 1—ICRs Responses, Burden, and Cost Summary
OMB ICR No. | EPA ICR No. | Title | Annual number of responses | Annual burden (hours) | Annual cost burden (dollars)
2040-0250 | 1989.06 | NPDES and ELG Regulatory Revisions for Concentrated Animal Feeding Operations (Final Rule) | 179,483 | 2,998,603 | 7,780,524
2040-0258 | 2087.03 | Concentrated Aquatic Animal Production Point Source Category Effluent Guidelines Reporting and Recordkeeping Requirements | 734 | 44,196 | 0
2040-0004 | 0229.19 | NPDES program ICR | 385 | 1,341 | 0

Table 2—ICRs Respondents and Averages Summary
OMB ICR No. | EPA ICR No. | Title | Number of potential respondents | Average number of responses for each respondent | Average hours per response
2040-0250 | 1989.06 | NPDES and ELG Regulatory Revisions for Concentrated Animal Feeding Operations (Final Rule) | 20,729 | 8.7 | 16.7
2040-0258 | 2087.03 | Concentrated Aquatic Animal Production Point Source Category Effluent Guidelines Reporting and Recordkeeping Requirements | 245 | 3.0 | 60.2
2040-0004 | 0229.19 | NPDES program ICR | 242 | 1.6 | 3.5

After the consolidation and update are completed, the agency estimates a burden of 2,810,266 hours annually for 22,844 operator respondents at a cost of $63.6 million ($56.7 million burden cost and $6.9 million capital and O&M cost). Burden for the state respondents will be 463,412 hours annually at a cost of $10.0 million ($8.1 million burden cost and $1.8 million capital and O&M cost). Updated agency burden will be 15,188 hours annually at a cost of $0.8 million. The annual reporting and record-keeping burden for this collection of information is estimated to average 1.1 hours per response.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Change in Burden: The current burden approved by OMB for the two ICRs being consolidated plus the activities from the NPDES Program ICR being migrated to this ICR is 3,044,140 hours. This consolidated ICR estimates a total burden that is 229,537 hours more than the currently approved burden for the same ICRs. This increase in burden corresponds to 7.5 percent of the overall burden. The main cause of increase is that the animal agricultural industry has continued to change. These changes have included further growth and consolidation, which has resulted in a greater number of AFOs that meet the size threshold for being defined as a Large CAFO. The projections also reflect more robust estimates from States and EPA regions on numbers of CAFOs in each. EPA estimates that the industry will grow at an average annual rate of 5.6% over the life of this ICR; with permitted CAFOs growing at an average annual rate of 6.0%.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: February 16, 2010.
James A. Hanlon,
Director, Office of Wastewater Management.

[FR Doc. 2010-3842 Filed 2-24-10; 8:45 am]

BILLING CODE 6560-50-P